DEPARTMENT OF TRANSPORTATION

Federal Aviation Administration

Notice of Intent To Request Renewal From the Office of Management and Budget (OMB) of Six Current Public Collections of Information

AGENCY: Federal Aviation Administration (FAA), DOT.

ACTION: Notice.

SUMMARY: In compliance with the Paperwork Reduction Act (44 U.S.C. 3501 et seq.), the FAA invites public comment on six currently approved public information collections which will be submitted to OMB for renewal.

DATES: Comments must be received on or before June 16, 2003.

ADDRESSES: Comments may be mailed or delivered to the FAA at the following address: Ms. Ann Hoffer, Room 612, Federal Aviation Administration, Standards and Information Division, APF-3, 800 Independence Ave., SW., Washington, DC 20591.

FOR FURTHER INFORMATION CONTACT: Ms. Ann Hoffer at the above address, on (202) 267-3856, or by e-mail at: ann.hoffer@faa.gov.

SUPPLEMENTARY INFORMATION: In accordance with the Paperwork Reduction Act of 1995, an agency may not conduct or sponsor, and a person is not required to respond to a collection of information unless it displays a currently valid OMB control number. Therefore, the FAA solicits comments on the following current collections of information. Comments should evaluate the necessity of the collection, the accuracy of the agency's estimate of the burden, the quality, utility, and clarity of the information to be collected, and possible ways to minimize the burden of the collection.

1. 2120-0559, Aviation Research Grants Program. The FAA Aviation Research and Development Grants Program establishes uniform policies and procedures for the award and administration of research grants to colleges, universities, profit and not for profit organizations for security research., The current estimated annual reporting burden is 1,400 hours.

2. 2120-0657, Type Certification Procedures for Changed Products. 14 CFR part 21 with certain exceptions requires that all certification applications for aviation product changes comply with the airworthiness standards outlined in the latest regulations in determining the certification basis for the design changes. This rule requires applicants to comply with the latest regulations in effect on the date of application for amended Type Certificates (TCs) or supplemental TCs for aeronautical products. The current estimated annual reporting burden is 18,815 hours.

3. 2120-0659, Noise Certification Standards for Jet Airplanes and Subsonic Transport Category Large Airplanes. The FAA requires operators of jet and subsonic transport category large airplanes to submit a noise certification compliance report. The noise compliance report is used by the FAA to determine that the aircraft is in compliance with 14 CFR part 36. The current estimated annual reporting burden is 1,350 hours.

4. 2120-0660, Flight Operational Quality Assurance (FOQA) Program. FOQA is a voluntary program for the routine collection and analysis of digital flight data from airplane operations. The purpose is to enable early corrective action for potential threats to safety. The program codifies protection from punitive enforcement action based on FOQA information, and requires participating air carriers to provide aggregate FOQA data to the FAA. The current estimated annual reporting burden is 360 hours.

5. 2120-0661, Competition Plans, Passenger Facility Charges. This information is needed to implement a passenger facility charge as required by section 155 of the Wendell H. Ford Aviation Investment and Reform Act for the 21st Century. The affected public includes public agencies controlling medium or large hub airports at which one or two air carriers control more than 50 percent of the passenger boardings. The current estimated annual reporting burden is 5,945 hours.

6. 2120-0662, Laser operations, Airspace Requests, Miscellaneous Procedures. The FAA requires this information in the interest of aviation safety to protect aircraft operations from the potential hazardous effect of laser emissions. The FAA reviews the information collected for its impact on aviation near the laser activity. On completion of the review of the information the FAA issues a letter of determination to the respondent about their request. The current estimated annual reporting burden is 2,200 hours.

Issued in Washington, DC, on April 10, 2003.
Ann P. Hoffer,
Office of Cost and Performance Management, Special Projects Officer, APF-3.

[FR Doc. 03-9511 Filed 4-16-03; 8:45 am]

BILLING CODE 4910-13-M